DEPARTMENT OF TRANSPORTATION

Federal Aviation Administration

14 CFR Part 39

[Docket No. 2003-CE-53-AD; Amendment 39-13658; AD 2004-11-12]

RIN 2120-AA64

Airworthiness Directives; Alexander Schleicher Model ASW 27 Sailplanes

AGENCY: Federal Aviation Administration (FAA), DOT.

ACTION: Final rule.

SUMMARY: The FAA adopts a new airworthiness directive (AD) for all Alexander Schleicher Model ASW 27 sailplanes equipped with integrated (wet inner surface) water ballast tanks in the wings, which could put the center of gravity (CG) of the sailplane out of the acceptable range. This AD requires you to install a warning placard requiring pilots weighing more than 105 kg (231.5 lbs) to use the rearmost backrest hinge position; and requires you to determine the forward empty CG and make any necessary adjustments. This AD is the result of mandatory continuing airworthiness information (MCAI) issued by the airworthiness authority for Germany. We are issuing this AD to correct the CG to the acceptable range when integrated ballast water tanks are installed. Failure of the sailplane to be within the acceptable CG range could result in loss of sailplane control.

DATES: This AD becomes effective on July 27, 2004.

As of July 27, 2004, the Director of the Federal Register approved the incorporation by reference of certain publications listed in the regulation.

ADDRESSES: You may get the service information identified in this AD from Alexander Schleicher GmbH & Co., Segelflugzeugbau, D-36163 Poppenhausen, Germany.

You may view the AD docket at FAA, Central Region, Office of the Regional Counsel, Attention: Rules Docket No. 2003-CE-53-AD, 901 Locust, Room 506, Kansas City, Missouri 64106. Office hours are 8 a.m. to 4 p.m., Monday through Friday, except Federal holidays.

FOR FURTHER INFORMATION CONTACT: Gregory Davison, Aerospace Engineer, Small Airplane Directorate, ACE-112, 901 Locust, Room 301, Kansas City, Missouri 64106; telephone: 816-329-4130; facsimile: 816-329-4090.

SUPPLEMENTARY INFORMATION:

Discussion

What events have caused this AD? The Luftfahrt-Bundesamt (LBA), which is the airworthiness authority for Germany, recently notified FAA that an unsafe condition may exist on certain Alexander Schleicher Model ASW 27 sailplanes with wings equipped with integrated (wet inner surface) water ballast tanks. The LBA reports that water ballast in the integral wing water ballast tanks causes a stronger nose heavy moment than the soft water ballast bags, putting the CG out of acceptable range. To compensate for this, pilots over a certain weight must only use the rearmost backrest position.

What is the potential impact if FAA took no action? Failure of the sailplane to be within the acceptable CG range could result in loss of sailplane control.

Has FAA taken any action to this point? We issued a proposal to amend part 39 of the Federal Aviation Regulations (14 CFR part 39) to include an AD that would apply to all Alexander Schleicher Model ASW 27 sailplanes equipped with integrated (wet inner surface) water ballast tanks in the wings. This proposal was published in the Federal Register as a notice of proposed rulemaking (NPRM) on April 14, 2004 (69 FR 19777). The NPRM proposed to require you to install a warning placard requiring pilots weighing more than 105 kg (231.5 lbs) to use the rearmost backrest hinge position; and require you to determine the forward empty weight CG and make any necessary adjustments.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 31 sailplanes in the U.S. registry.

What is the cost impact of this AD on owners/operators of the affected sailplanes? We estimate the following costs to accomplish the modification:

Labor cost | Parts cost | Total cost per sailplane | Total cost on U.S. operators
1 workhour × $60 per hour = $60 | $7 | $67 | $2,077

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-53-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-11-12 Alexander Schleicher Gmbh & Co.: Amendment 39-13658; Docket No. 2003-CE-53-AD.

When Does This AD Become Effective?

(a) This AD becomes effective on July 27, 2004.

What Other ADs Are Affected by This Action?

(b) None.

What Sailplanes Are Affected by This AD?

(c) This AD affects the following Alexander Schleicher Model ASW 27 sailplanes that are certificated in any category:

Serial numbers | Condition
(1) 27105, 27109, 27110, 27113, 27115, 27116, and 27119 through 27177 | Equipped with integrated (wet inner surface) water ballast tanks on the wing at manufacture.
(2) 27001 and up | Equipped with integrated (wet inner surface) water ballast tanks through wing replacement per Technical Note No. 2.

What Is the Unsafe Condition Presented in This AD?

(d) This AD is the result of water ballast in the integral wing water ballast tanks that may cause a stronger nose heavy moment than the soft water ballast bags, putting the center-of-gravity (CG) out of acceptable range. To compensate for this, pilots over a certain weight must only use the rearmost backrest position. The actions specified in this AD are intended to correct the forward empty weight CG and prevent loss of sailplane control.

What Must I Do To Address This Problem?

(e) To address this problem, you must do the following:

Actions | Compliance | Procedures
(1) Fabricate (using letters at least 1/8-inch in height) a warning placard with the following language and install this placard in the cockpit in full view of the pilot: “When water ballast is used, pilots weighing 105 kg (231.5 lbs) or more including parachute must use the rearmost back rest hinge position!” | Warning placard must be installed within 25 hours time-in-service (TIS) after July 27, 2004 (the effective date of this AD) | Install placard following Alexander Schleicher Technical Note No. 9, dated February 27, 2002.
(2) Determine the forward empty weight CG (i) If the CG is out of acceptable range, prior to further flight, contact the manufacturer at Alexander Schleicher GmbH & Co., Seglflugzeugbau, D-36163 Poppenhausen, Germany for corrective action and perform the corrective action. (ii) If CG is within acceptable range, no further action is necessary. | Within the next 50 hours TIS after July 27, 2004 (the effective date of this AD) | Check forward empty weight of CG following Alexander Schleicher Technical Note No. 9, dated February 27, 2002.

Note: Alexander Schleicher Technical Note No. 9, dated February 27, 2002, changes some pages to the maintenance manual. We recommend that you review those changes.

May I Request an Alternative Method of Compliance?

(f) You may request a different method of compliance or a different compliance time for this AD by following the procedures in 14 CFR 39.19. Unless FAA authorizes otherwise, send your request to your principal inspector. The principal inspector may add comments and will send your request to the Manager, Standards Office, FAA, Small Airplane Directorate, 901 Locust, Room 301, Kansas City, MO 64106. For information on any already approved alternative methods of compliance, contact Gregory Davison, Aerospace Engineer, Small Airplane Directorate, ACE-112, 901 Locust, Room 301, Kansas City, Missouri 64106; telephone: 816-329-4130; facsimile: 816-329-4090.

Does This AD Incorporate Any Material by Reference?

(g) You must do the actions required by this AD following the instructions in Alexander Schleicher Technical Note No. 9, dated February 27, 2002. The Director of the Federal Register approved the incorporation by reference of this service bulletin in accordance with 5 U.S.C. 552(a) and 1 CFR part 51. You may get a copy from Alexander Schleicher GmbH & Co., Seglflugzeugbau, D-36163 Poppenhausen, Germany. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Is There Other Information That Relates to This Subject?

(h) LBA AD 2002-086, dated March 7, 2002, and Alexander Schleicher Technical Note No. 9, dated February 27, 2002 also address the subject of this AD.

Issued in Kansas City, Missouri, on May 27, 2004.
Scott L. Sedgwick,
Acting Manager, Small Airplane Directorate, Aircraft Certification Service.

[FR Doc. 04-12574 Filed 6-7-04; 8:45 am]

BILLING CODE 4910-13-P